DEPARTMENT OF THE INTERIOR

Fish and Wildlife Service

[FWS-R2-ES-2008-N0225; 20124-1112-0000-F2]

Regional Habitat Conservation Plan, Comal County, TX

AGENCY: Fish and Wildlife Service, Interior.

ACTION: Notice of intent to prepare an environmental impact statement; announcement of public scoping meeting; request for public comment.

SUMMARY: Under the National Environmental Policy Act (NEPA) and its implementing regulations, we, the Fish and Wildlife Service (Service), advise the public that we intend to prepare an environmental impact statement to evaluate the impacts of, and alternatives to, the issuance of an incidental take permit (ITP), under section 10(a)(1)(B) of the Endangered Species Act of 1973, as amended (Act), to Comal County, Texas. Comal County proposes to apply for an ITP, through development and implementation of a Regional Habitat Conservation Plan (RHCP), as required by the Act. The RHCP will provide measures to minimize and mitigate for the impacts of the proposed taking of federally listed species (covered species) and the habitats upon which they depend.

DATES: To ensure consideration, we must receive written comments on or before close of business (4:30 p.m. CST) December 15, 2008. We will also accept oral and written comments at a public hearing on December 4, 2008, from 6 p.m. to 8 p.m. at the Comal County Commissioners Court, 199 Main Plaza, New Braunfels, TX 78130.

ADDRESSES: Send written comments to Mr. Adam Zerrenner, Field Supervisor, U.S. Fish and Wildlife Service, 10711 Burnet Road, Suite 200, Austin, TX 78758. The public scoping meeting will take place at the Comal County Commissioners Court, 199 Main Plaza, New Braunfels, TX 78130.

FOR FURTHER INFORMATION CONTACT: EIS Information: Mr. Adam Zerrenner, Field Supervisor, by U.S. mail at U.S. Fish and Wildlife Service, 10711 Burnet Road, Suite 200, Austin, TX 78758; by phone at (512) 490-0057; or by fax at (512) 490-0974.

Comal County RHCP Information: Tom Hornseth, County Engineer, by U.S. mail at 195 David Jonas Drive, New Braunfels, TX 78132, or by phone at (830) 608-2090. Additional information is available on the Internet at http://www.co.comal.tx.us/comalrhcp.

SUPPLEMENTARY INFORMATION: We intend to prepare an EIS to evaluate the impacts of, and alternatives to, the proposed issuance of an ITP under the Act (16 U.S.C. 1531 et seq.) to Comal County. We also announce a public scoping meeting and public comment period. Comal County proposes to apply for an ITP supported by development and implementation of its RHCP. The RHCP will include measures necessary to minimize and mitigate for the impacts of the proposed taking of covered species to the maximum extent practicable. We furnish this notice, in compliance with NEPA (42 U.S.C. 4321 et seq.) and its implementing regulations (40 CFR 1500-1508), in order to: (1) Advise other Federal and State agencies, affected tribes, and the public of our intent to prepare an EIS; (2) announce the initiation of a public scoping period; and (3) obtain suggestions and information on the scope of issues and alternatives we will consider in our EIS. We intend to gather the information necessary to determine impacts and alternatives for an EIS regarding our potential issuance of an ITP to Comal County, and the implementation of the RHCP.

Public Availability of Comments

All comments we receive become part of the public record. Requests for copies of comments will be handled in accordance with the Freedom of Information Act, NEPA, and Service and Department of the Interior policies and procedures. Before including your address, phone number, e-mail address, or other personal identifying information in your comment, you should be aware that your entire comment—including your personal identifying information—may be made publicly available at any time. While you can ask us to withhold your personal identifying information from public review, we cannot guarantee we will be able to do so.

Background

Section 9 of the Act and its implementing regulations prohibit the take of animal species listed under the Act as endangered or threatened. The definition of “take” under the Act includes the following activities: To harass, harm, pursue, hunt, shoot, wound, kill, trap, capture, or collect listed animal species, or attempt to engage in any such conduct (16 U.S.C. 1538). Regulations define “harm” as significant habitat modification or degradation that results in actual death or injury to listed species by significantly impairing essential behavioral patterns, including breeding, feeding, or sheltering (50 CFR 17.3).

Section 10(a)(1)(B) of the Act requires us to issue incidental take permits to non-Federal entities for the take of endangered and threatened species, provided the following criteria are met: (1) The taking will be incidental; (2) the applicant will, to the maximum extent practicable, minimize and mitigate the impact of such taking; (3) the applicant will develop a habitat conservation plan and ensure that adequate funding for the plan will be provided; (4) the taking will not appreciably reduce the likelihood of the survival and recovery of the species in the wild; and (5) the applicant will carry out any other measures that we may require as being necessary or appropriate for the purposes of the habitat conservation plan.

We anticipate that under the ITP, Comal County will request permit coverage for a period of 30 years from the date of the RHCP approval. Implementation of the RHCP would result in the establishment of preserves intended to provide for the conservation of the covered species occupying those preserves. Research, monitoring, and adaptive management would be used to facilitate accomplishment of these goals.

Proposed Action

Our proposed action is the issuance of an ITP for the covered species in Comal County. Comal County would develop and implement the RHCP, which must meet the requirements in Section 10(a)(2)(A) of the Act by providing measures necessary to minimize and mitigate for the impacts of the proposed taking of covered species to the maximum extent practicable.

Activities proposed for coverage under the ITP include otherwise lawful activities that would occur consistent with the RHCP and include, but are not limited to, construction and maintenance of public projects and infrastructure as well as residential, commercial, and industrial development.

Species Comal County has recommended for inclusion as covered species in the RHCP include the golden-cheeked warbler (Dendroica chrysoparia) and black-capped vireo (Vireo atricapilla). For these covered species, Comal County would seek incidental take authorization. The Comal County RHCP would also address 19 “evaluation species” (18 terrestrial or aquatic karst species and the Cagle's map turtle (Graptemys caglei)) and 4 “additional species” (listed aquatic species known from Comal County). Incidental take authorization for the evaluation species may become necessary during the lifetime of the ITP; however, these species would not initially be included as covered species. Evaluation species are currently unlisted, but may become listed in the foreseeable future. The RHCP may include conservation measures to benefit evaluation species, where practicable, and support research to help fill data gaps regarding the biology, habitat, distribution, and/or management of these species. The research supported by the RHCP may help preclude the need to list these species or facilitate obtaining incidental take coverage if these species become listed in the future. Comal County would not seek incidental take authorization for the four “additional species,” because these species are not likely to experience take from covered activities.

Alternatives: The proposed action and alternatives that will be developed in the EIS will be assessed against the No Action/No Project Alternative, which assumes that some or all of the current and future take of covered species in Comal County would be implemented individually, one at a time, and be in compliance with the Act. The No Action/No Project Alternative implies that the impacts from these potential activities on the covered species would be evaluated and mitigated on a project-by-project basis, as is currently the case. For any activities involving take of listed species due to non-Federal actions, individual Section 10(a)(1)(B) permits would be required. Without a coordinated, comprehensive conservation approach for the County, listed species may not be adequately addressed by individual project-specific mitigation requirements, and mitigation would be piecemeal and less cost effective in helping Federal and non-Federal agencies work toward recovery of listed species. In addition to the No Action/No Project Alternative, a reasonable range of alternatives will also be considered, along with the associated impacts of the various alternatives.

Scoping Meeting

The primary purpose of this meeting and public comment period is to receive suggestions and information on the scope of issues and alternatives to consider when drafting the EIS. We will accept oral and written comments at this meeting. You may also submit your comments by mail (see ADDRESSES above). Once the draft EIS and draft RHCP are completed, additional opportunity for public comment on the content of these documents and an additional public meeting will be provided.

Persons needing reasonable accommodations in order to attend and participate in the public scoping meeting should contact the Service (see ADDRESSES above) no later than 1 week prior to the public scoping meeting. Information regarding this proposed action is available in alternative formats upon request.

A primary purpose of the scoping process is to identify, rather than debate, significant issues related to the proposed action. In order to ensure that we identify a range of issues and alternatives related to the proposed action, we invite comments and suggestions from all interested parties. We will conduct a review of this project according to the requirements of NEPA, other appropriate Federal laws, regulations, policies, and guidance, and Service procedures for compliance with those regulations.

Environmental Review

The EIS will be prepared in accordance with the requirements of NEPA, other applicable regulations, and the Service's procedures for compliance with those regulations. The EIS will analyze the proposed action, as well as a range of reasonable alternatives and the associated impacts of each. The EIS will be the basis for our evaluation of impacts to the human environment and the range of alternatives to be addressed. We expect the EIS to provide biological descriptions of the affected species and habitats, as well as the effects of the proposed action and alternatives on resources such as: Vegetation, wetlands, wildlife, threatened or endangered species and rare species, geology and soils, air quality, water resources, flood control, water quality, cultural resources (prehistoric, historic, and traditional cultural properties), land use, recreation, water use, local economy, and environmental justice.

After a draft EIS is prepared, we will publish a Notice of Availability along with a request for comment on the draft EIS and Comal County's permit application, which will include the draft RHCP.

The draft EIS and draft RHCP are expected to be completed and available to the public by January 2010.

Thomas L. Bauer,
Acting Regional Director, Southwest Region, Albuquerque, New Mexico.

[FR Doc. E8-24570 Filed 10-15-08; 8:45 am]

BILLING CODE 4310-55-P